DEPARTMENT OF EDUCATION

34 CFR Part 99

RIN 1855-AA05

[DOCKET ID ED-2008-OPEPD-0002]

Family Educational Rights and Privacy

AGENCY: Office of Planning, Evaluation, and Policy Development, Department of Education.

ACTION: Final rule; correction.

SUMMARY: The Department of Education is correcting a final regulation that was published in the Federal Register on December 9, 2008 (73 FR 74806).

DATES: Effective January 8, 2009.

FOR FURTHER INFORMATION CONTACT: Ellen Campbell, U.S. Department of Education, 400 Maryland Avenue, SW., room 6W243, Washington, DC 20202-8250. Telephone: (202) 260-3887.

If you use a telecommunications device for the deaf (TDD), you may call the Federal Relay Service (FRS) at 1-800-877-8339.

Individuals with disabilities can obtain this document in an accessible format (e.g., braille, large print, audiotape, or computer diskette) on request to the contact person listed under this section.

SUPPLEMENTARY INFORMATION: Electronic Access to This Document: You can view this document, as well as all other documents of this Department published in the Federal Register, in text or Adobe Portable Document Format (PDF) on the Internet at the following site: www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: www.gpoaccess.gov/nara/index.html.

In FR Doc. E8-28864 appearing on page 74806 in the Federal Register on December 9, 2008, the following corrections are made:

§ 99.31 [Corrected]

1. On page 74852, in the second column, in § 99.31, add “* * * * *” after the note to paragraph (a)(2).

2. On page 74853, in the first column, in § 99.31, paragraph (d) is corrected to add, at the end of the sentence, before the “.”, “except for parties under paragraph (a)(12) of this section”.

§ 99.67 [Corrected]

3. On page 74855, in the third column, in § 99.67, in amendment 17, the instruction is corrected to read “Section 99.67 is amended by revising paragraph (a), introductory text, to read as follows:”

Dated: December 31, 2008.
Raymond Simon,
Deputy Secretary of Education.

[FR Doc. E8-31461 Filed 1-5-09; 8:45 am]

BILLING CODE 4000-01-P